FEDERAL COMMUNICATIONS COMMISSION

Notice of Public Information Collection(s) Being Reviewed by the Federal Communications Commission for Extension Under Delegated Authority

June 26, 2006.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments September 5, 2006. If you anticipate that you will be submitting comments, but find it difficult to do so within the period of time allowed by this notice, you should advise the contact listed below as soon as possible.

ADDRESSES: You may submit your Paperwork Reduction Act (PRA) comments by email or U.S. postal mail. To submit your comments by email send them to: PRA@fcc.gov. To submit your comments by U.S. mail, mark it to the attention of Judith B. Herman, Federal Communications Commission, 445 12th Street, SW., Room 1-C804, Washington, DC 20554.

FOR FURTHER INFORMATION CONTACT: For additional information about the information collection(s) send an email to PRA@fcc.gov or contact Judith B. Herman at 202-418-0214. If you would like to obtain or view a copy of this information collection, you may do so by visiting the FCC PRA web page at: http://www.fcc.gov/omd/pra.

SUPPLEMENTARY INFORMATION: OMB Control No.: 3060-0745.

Title: Implementation of the Local Exchange Carrier Tariff Streamlining Provisions in the Telecommunications Act of 1996, CC Docket No. 96-187.

Form No.: N/A.

Type of Review: Extension of a currently approved collection.

Respondents: Business or other for-profit.

Number of Respondents: 67.

Estimated Time per Response: 1-55.9 hours.

Frequency of Response: On occasion reporting requirement, recordkeeping requirement and third party disclosure requirement.

Total Annual Burden: 3,934 hours.

Annual Cost Burden: $775,000.

Privacy Act Impact Assessment: N/A.

Needs and Uses: This collection will be submitted to the Office of Management and Budget (OMB) after this 60 day comment period as an extension (no change in requirements) in order to obtain the full three year clearance from them. The number of respondents has decreased from 1,520 to 67 from the last time this collection was submitted to OMB in 2003. The requested changes in burden for the total annual burden hours and annual costs have been revised to accurately reflect the most recent information available. Many local exchange carriers have chosen to participate in group filings for tariffs. This has resulted in a major adjustment to the number of respondents, estimated burden hours and annual costs. For instance, National Exchange Carrier Association (NECA) files for approximately 900 Local Exchange Carriers (LECs). This has drastically reduced the number of respondents for this collection.

The Commission issued these reporting, recordkeeping and third party disclosure requirements in CC Docket No. 96-187 in January 31, 1997. The rulemaking adopted measures to streamline tariff filing requirements for LECs of the Telecommunications Act of 1996. In order to achieve a streamlined and de-regulatory environment for LEC tariff filings, LECs are required to file tariffs electronically.

Federal Communications Commission.
William F. Caton,
Deputy Secretary.

[FR Doc. E6-10480 Filed 7-5-06; 8:45 am]

BILLING CODE 6712-01-P